ENVIRONMENTAL PROTECTION AGENCY

40 CFR Part 52

[EPA-R06-OAR-2006-0016; FRL-8248-2]

Approval and Promulgation of Air Quality Implementation Plans; Texas; Revisions to Reid Vapor Pressure Requirements for Gasoline

AGENCY: Environmental Protection Agency (EPA).

ACTION: Proposed rule.

SUMMARY: EPA is proposing to approve a State Implementation Plan (SIP) revision submitted by Texas on October 4, 2001. The revisions pertain to Reid Vapor Pressure (RVP) requirements for gasoline. The revisions add exemptions to RVP requirements for research laboratories and academic institutions, competition racing, and gasoline that is being stored or transferred that is not used in the affected counties. The revisions also reduce record keeping requirements for retail gasoline dispensing outlets in the affected counties, and correct a typographical error. We are proposing approval of the revisions pursuant to section 110 and part D of the Federal Clean Air Act.

DATES: Written comments should be received on or before December 27, 2006.

ADDRESSES: Comments may be mailed to Mr. Thomas Diggs, Chief, Air Planning Section (6PD-L), Environmental Protection Agency, 1445 Ross Avenue, Suite 1200, Dallas, Texas 75202-2733. Comments may also be submitted electronically or through hand delivery/courier by following the detailed instructions in the ADDRESSES section of the direct final rule located in the rules section of this Federal Register.

FOR FURTHER INFORMATION CONTACT: Alima Patterson, State/Oversight Section (6PD-O), Environmental Protection Agency, Region 6, 1445 Ross Avenue, Suite 700, Dallas, Texas 75202-2733, telephone (214) 665-7247; fax number 214-665-7263; e-mail address patterson.alima@epa.gov.

SUPPLEMENTARY INFORMATION: In the final section of this Federal Register, EPA is approving the State's SIP submittal as a direct rule without prior proposal because the Agency views this as noncontroversial submittal and anticipates no adverse comments. A detailed rationale for the approval is set forth in the direct final rule. If no adverse comments are received in response to this action no further activity is contemplated. If EPA receives adverse comments, the direct final rule will be withdrawn and all public comments received will be addressed in a subsequent final rule based on this proposed rule. EPA will not institute a second comment period. Any parties interested in commenting on this action should do so at this time.

For additional information, see the direct final rule which is located in the rules section of this Federal Register.

Dated: November 9, 2006.
Lawrence E. Starfield,
Acting Regional Administrator, Region 6.

[FR Doc. E6-19992 Filed 11-24-06; 8:45 am]

BILLING CODE 6560-50-P